DEPARTMENT OF ENERGY

Federal Energy Regulatory Commission

Project No. 13234-001

City and Borough of Sitka; Notice of Intent to File License Application, Filing of Pre-Application Document, and Approving Use of the Alternative Licensing Procedures

April 29, 2009.

a. Type of Filing: Notice of Intent to File License Application, Filing of Pre-Application Document, and Approving Use of the Alternative Licensing Procedures.

b. Project No.: 13234-001.

c. Date Filed: March 20, 2009.

d. Submitted By: City and Borough of Sitka.

e. Name of Project: Takatz Lake Hydroelectric Project.

f. Location: On the Takatz Lake and Takatz Creek, approximately 20 miles east of the City of Sitka, Alaska, on the east side of Baranof Island. The project would occupy federal lands within the Tongass National Forest, administered by the U.S. Forest Service.

g. Filed Pursuant to: 18 CFR section 5.3 of the Commission's regulations.

h. Applicant Contact: Christopher Brewton, Utility Manager, City and Borough of Sitka, Electric Department, 105 Jarvis Street, Sitka, Alaska 99835; (907) 747-1870; e-mail at chrisb@cityofsitka.com.

i. FERC Contact: Joseph Adamson at (202) 502-8085; or e-mail at joseph.adamson@ferc.gov.

j. The City and Borough of Sitka filed its request to use the Alternative Licensing Procedures on March 20, 2009. The City and Borough of Sitka stated it provided public notice of its request on March 20, 2008. In a letter dated April 28, 2009, the Director, Division of Hydropower Licensing approved the City and Borough of Sitka's request to use the Alternative Licensing Procedures.

k. With this notice, we are initiating informal consultation with: (a) The U.S. Fish and Wildlife Service and/or NOAA Fisheries under section 7 of the Endangered Species Act and the joint agency regulations thereunder at 50 CFR Part 402; (b) NOAA Fisheries under section 305(b) of the Magnuson-Stevens Fishery Conservation and Management Act and implementing regulations at 50 CFR section 600.920; and (c) the Alaska State Historic Preservation Officer, as required by section 106, National Historical Preservation Act, and the implementing regulations of the Advisory Council on Historic Preservation at 36 CFR section 800.2.

l. With this notice, we are designating the City and Borough of Sitka as the Commission's non-federal representative for carrying out informal consultation, pursuant to section 7 of the Endangered Species Act, section 305 of the Magnuson-Stevens Fishery Conservation and Management Act, and section 106 of the National Historic Preservation Act.

m. The City and Borough of Sitka filed a Pre-Application Document (PAD; including a proposed process plan and schedule) with the Commission, pursuant to 18 CFR section 5.6 of the Commission's regulations.

n. A copy of the PAD is available for review at the Commission in the Public Reference Room or may be viewed on the Commission's Web site at http://www.ferc.gov using the “eLibrary” link. Enter the docket number excluding the last three digits in the docket number field to access the document. For assistance, contact FERC Online Support at FERCONlineSupport@ferc.gov or toll free at 1-866-208-3676, or for TTY, (202) 502-8659. A copy is also available for inspection and reproduction at the address in item h.

o. Register online at http://www.ferc.gov/docs-filing/esubscription.asp to be notified via e-mail of new filings and issuances related to this or other pending projects. For assistance, contact FERC Online Support.

Kimberly D. Bose,
Secretary.

[FR Doc. E9-10403 Filed 5-5-09; 8:45 am]

BILLING CODE 6717-01-P